DEPARTMENT OF THE INTERIOR

Bureau of Indian Affairs

[178A2100DD/AAKC001030/A0A501010.999900 253G]

Notice of Intent To Prepare an Environmental Impact Statement for the Proposed Redding Rancheria Fee-to-Trust and Casino Project, Shasta County, California

AGENCY: Bureau of Indian Affairs, Interior.

ACTION: Notice.

SUMMARY: This notice advises the public that the Bureau of Indian Affairs (BIA), as lead agency, intends to gather information necessary for preparing an environmental impact statement (EIS) in connection with the Redding Rancheria's (Tribe) application requesting that the United States acquire approximately 232 acres of land in trust in Shasta County, California, for the construction and operation of a casino resort.

DATES: To ensure consideration during the development of the EIS, written comments on the scope of the EIS should be sent as soon as possible and no later than December 29, 2016. The date of the public scoping meeting will be announced at least 15 days in advance through a notice to be published in the local newspapers (Redding Record Searchlight and Sacramento Bee) and online at www.reddingeis.com.

ADDRESSES: You may mail or hand-deliver written comments to Ms. Amy Dutschke, Regional Director, Bureau of Indian Affairs, Pacific Region, 2800 Cottage Way, Sacramento, California 95825. Please include your name, return address, and “NOI Comments, Redding Rancheria Project” on the first page of your written comments. You may also submit comments through email to John Rydzik, Chief, Division of Environmental, Cultural Resource Management and Safety, Bureau of Indian Affairs, at john.rydzik@bia.gov. If emailing comments, please use “NOI Comments, Redding Rancheria Project” as the subject of your email.

The location of the public scoping meeting will be announced at least 15 days in advance through a notice to be published in the local newspaper (Redding Record Searchlight and Sacramento Bee) and online at www.reddingeis.com.

FOR FURTHER INFORMATION CONTACT: Mr. John Rydzik, Chief, Division of Environmental, Cultural Resource Management and Safety, Bureau of Indian Affairs, Pacific Regional Office, 2800 Cottage Way, Room W-2820, Sacramento, California 95825; telephone: (916) 978-6051; email: john.rydzik@bia.gov. Information is also available online at www.reddingeis.com.

SUPPLEMENTARY INFORMATION: The Tribe submitted an application to the Department of the Interior (Department) requesting the placement of approximately 232 acres of fee land in trust by the United States upon which the Tribe would construct a casino resort. The facility would include an approximately 140,000 square foot casino, an approximately 250-room hotel, an event/convention center, a retail center, and associated parking and infrastructure. The new facility would replace the Tribe's existing casino, and the exisiting casino buildings would be converted to a different use. Accordingly, the proposed action for the Department is the acquisition requested by the Tribe. The proposed fee-to-trust property is located in an unincorporated part of Shasta County, California, approximately 1.6 miles northeast of the existing Redding Rancheria, and about two miles southeast of downtown Redding. The proposed trust property includes seven parcels, bound by Bechelli Lane on the north, private properties to the south, the Sacremento River on the west, and Interstate 5 on the east. The Shasta County Assessor's parcel numbers (APNs) for the property are 055-010-011, 055-010-012, 055-010-014, 055-010-015, 055-050-001, 055-020-004 and 055-020-005. The purpose of the proposed action is to improve the economic status of the Tribal government so it can better provide housing, health care, education, cultural programs, and other services to its members.

The proposed action encompasses the various Federal approvals which may be required to implement the Tribe's proposed economic development project, including approval of the Tribe's fee-to-trust application. The EIS will identify and evaluate issues related to these approvals, and will also evaluate a range of reasonable alternatives. Possible alternatives currently under consideration are a reduced-intensity casino alternative, an alternate-use (non-casino) alternative, and one or more off-site alternatives. The range of issues and alternatives may be expanded based on comments received during the scoping process.

Areas of environmental concern identified for analysis in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects. The range of issues and alternatives to be addressed in the EIS may be expanded or reduced based on comments received in response to this notice and at the public scoping meeting. Additional information, including a map of the project site, is available by contacting the person listed in the FOR FURTHER INFORMATION CONTACT section of this notice.

Public Comment Availability: Comments, including names and addresses of respondents, will be available for public review at the BIA address shown in the ADDRESSES section, during regular business hours, 8:00 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with sections 1501.7 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Dated: November 18, 2016.
Lawrence S. Roberts,
Principal Deputy Assistant Secretary—Indian Affairs.

[FR Doc. 2016-28757 Filed 11-28-16; 8:45 am]

BILLING CODE 4337-15-P